DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the program in general, contact Lisa L. Reyes, Clerk of Court, United States Court of Federal Claims, 717 Madison Place NW, Washington, DC 20005, (202) 357-6400. For information on HRSA's role in the program, contact the Director, National Vaccine Injury Compensation Program, 5600 Fishers Lane, Room 08N146B, Rockville, MD 20857; (301) 443-6593, or visit our website at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the United States Court of Federal Claims and to serve a copy of the petition on the Secretary of HHS, who is named as the respondent in each proceeding. The Secretary has delegated this responsibility under the program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This table lists for each covered childhood vaccine the conditions that may lead to compensation and, for each condition, the time period for occurrence of the first symptom or manifestation of onset or of significant aggravation after vaccine administration. Compensation may also be awarded for conditions not listed in the Table and for conditions that are manifested outside the time periods specified in the table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on February 1, 2018, through February 28, 2018. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the Program.

Dated: March 26, 2018.
George Sigounas,
Administrator.

List of Petitions Filed

1. Michael Leblond, Denver, Colorado, Court of Federal Claims No: 18-0161V

2. Cornelius Jones on behalf of O'Dell Cobb, Deceased, Fayetteville, North Carolina, Court of Federal Claims No: 18-0164V

3. Karen Harvey, Lynchburg, Virginia, Court of Federal Claims No: 18-0165V

4. Lisa Colbert, Tacoma, Washington, Court of Federal Claims No: 18-0166V

5. Gloria Manetta, Tampa, Florida, Court of Federal Claims No: 18-0172V

6. Carl Konen, Canal Fulton, Ohio, Court of Federal Claims No: 18-0174V

7. Glenn Freie, Hampton, Iowa, Court of Federal Claims No: 18-0175V

8. Janice Eby, Punta Gorda, Florida, Court of Federal Claims No: 18-0177V

9. Amber Barenblit on behalf of A. S., Lakeside, California, Court of Federal Claims No: 18-0180V

10. Erin Cody, Stamford, Connecticut, Court of Federal Claims No: 18-0181V

11. Mary Simon, Washington, District of Columbia, Court of Federal Claims No: 18-0182V

12. Zach Kellen, Des Moines, Iowa, Court of Federal Claims No: 18-0183V

13. Roisin Magee, Largo, Florida, Court of Federal Claims No: 18-0185V

14. Mary Dischinger, New Braunfels, Texas, Court of Federal Claims No: 18-0187V

15. Theresa Selmer, Winamac, Indiana, Court of Federal Claims No: 18-0188V

16. Benjamin Rogers, Cleveland, Texas, Court of Federal Claims No: 18-0190V

17. Wanda Garcia, Brooklyn, New York, Court of Federal Claims No: 18-0192V

18. William Henderson and Rhonda Henderson on behalf of A. H., Greensburg, Pennsylvania, Court of Federal Claims No: 18-0193V

19. Kathryn Cummings, Pflugerville, Texas, Court of Federal Claims No: 18-0195V

20. Nanci Damner, Washington, District of Columbia, Court of Federal Claims No: 18-0196V

21. Leonard Shearer, Phoenix, Arizona, Court of Federal Claims No: 18-0197V

22. Frank Crawford, Burleson, Texas, Court of Federal Claims No: 18-0198V

23. Lorraine Bervaldi, Hollywood, Florida, Court of Federal Claims No: 18-0199V

24. Misty Stephens, Waxahachie, Texas, Court of Federal Claims No: 18-0201V

25. Milan Harper, Evergreen Park, Illinois, Court of Federal Claims No: 18-0202V

26. Donald Winkler, Washington, District of Columbia, Court of Federal Claims No: 18-0203V

27. Sally Bellsnyder, Birmingham, Alabama, Court of Federal Claims No: 18-0205V

28. Susan Zinanni, Washington, District of Columbia, Court of Federal Claims No: 18-0209V

29. April Robinson on behalf of J. R., Folsom, California, Court of Federal Claims No: 18-0212V

30. Sandra Herzig, Greenfield, Massachusetts, Court of Federal Claims No: 18-0218V

31. Maria Herrera, Moorpark, California, Court of Federal Claims No: 18-0221V

32. Willie Ivory Rance, Kent, Washington, Court of Federal Claims No: 18-0222V

33. Marcia Gray, Bangor, Maine, Court of Federal Claims No: 18-0223V

34. Alison Bracken, Boston, Massachusetts, Court of Federal Claims No: 18-0224V

35. Kimberly Rayborn, Gulfport, Mississippi, Court of Federal Claims No: 18-0226V

36. Rebecca Plona, Dallas, Texas, Court of Federal Claims No: 18-0227V

37. Eric P. Kaplan, M.D., Chelmsford, Massachusetts, Court of Federal Claims No: 18-0231V

38. Victoria Leming and Kevin Leming on behalf of A. L., Sioux City, Iowa, Court of Federal Claims No: 18-0232V

39. Gina Beck, Washington, District of Columbia, Court of Federal Claims No: 18-0233V

40. Ivy Lopez, Chicago, Illinois, Court of Federal Claims No: 18-0234V

41. Holly Ann Randall, Newark, Ohio, Court of Federal Claims No: 18-0236V

42. Stacey Julien, Boston, Massachusetts, Court of Federal Claims No: 18-0237V

43. Anna Roof Harrelson, Charleston, South Carolina, Court of Federal Claims No: 18-0242V

44. Robin Robare, Temperance, Michigan, Court of Federal Claims No: 18-0247V

45. Jared Eastman, Andalusia, Alabama, Court of Federal Claims No: 18-0250V

46. Sandy Barrios, Deceased, Riverside, California, Court of Federal Claims No: 18-0254V

47. Maureen A. Cook, Greensboro, North Carolina, Court of Federal Claims No: 18-0255V

48. Daniel Ramos on behalf of Anthony Ramos, Deceased, Schertz, Texas, Court of Federal Claims No: 18-0256V

49. Bobbie Leaumont, Metairie, Louisiana, Court of Federal Claims No: 18-0258V

50. Robert Brooks on behalf of Duretta Brooks, Deceased, Boydton, Virginia, Court of Federal Claims No: 18-0259V

51. Maureen A. Ebbs, Plymouth, Massachusetts, Court of Federal Claims No: 18-0260V

52. Bonnie Wein on behalf of Linda Carl, Deceased, Apopka, Florida, Court of Federal Claims No: 18-0262V

53. Amy Lynn Gibson, Canton, Ohio, Court of Federal Claims No: 18-0263V

54. Nicole Moats, Oakland, Maryland, Court of Federal Claims No: 18-0264V

55. Mark DeMartini, Grass Valley, California, Court of Federal Claims No: 18-0265V

56. Maria Werning, Norman, Oklahoma, Court of Federal Claims No: 18-0267V

57. Gail Warr, Cleveland, Ohio, Court of Federal Claims No: 18-0268V

58. William B. Strickland and Christina M. Strickland on behalf of E. S., Lakeland, Florida, Court of Federal Claims No: 18-0269V

59. Jerica M. Mabry on behalf of J. L. M., Birmingham, Alabama, Court of Federal Claims No: 18-0276V

60. Amy L. Cates, Perryville, Missouri, Court of Federal Claims No: 18-0277V

61. Jeffrey W. Sprenger, Katy, Texas, Court of Federal Claims No: 18-0279V

62. Michal Behar on behalf of Roy Jacob Brison, Agoura Hills, California, Court of Federal Claims No: 18-0280V

63. Marla Davis, Kansas City, Missouri, Court of Federal Claims No: 18-0283V

64. Nichole Zurek on behalf of D. Z., Tucson, Arizona, Court of Federal Claims No: 18-0284V

65. Cassandra Yost, Rockville, Maryland, Court of Federal Claims No: 18-0288V

66. Mary Swearer, Washington, District of Columbia, Court of Federal Claims No: 18-0289V

67. Pamela Vardine, Schenectady, New York, Court of Federal Claims No: 18-0290V

68. Gary Smallwood, Washington, District of Columbia, Court of Federal Claims No: 18-0291V

69. Tammie Perry on behalf of J. P., Boston, Massachusetts, Court of Federal Claims No: 18-0294V

70. Kevin Sparrow and Danielle Sparrow on behalf of L. S., Bay View, Wisconsin, Court of Federal Claims No: 18-0295V

71. Ekaterina Kovtun, Brooklyn, New York, Court of Federal Claims No: 18-0296V

72. Cheryll Golden, Sebastian, Florida, Court of Federal Claims No: 18-0297V

73. Caroline Walker, Boston, Massachusetts, Court of Federal Claims No: 18-0299V

74. Diana Songero, Boston, Massachusetts, Court of Federal Claims No: 18-0300V

75. Kristen Moorby, Collingswood, New Jersey, Court of Federal Claims No: 18-0301V

76. Dana Broussard, Boston, Massachusetts, Court of Federal Claims No: 18-0302V

77. Danny Mitchell, Dresher, Pennsylvania, Court of Federal Claims No: 18-0303V

78. Herman Hogge, Sarasota, Florida, Court of Federal Claims No: 18-0304V

79. Cynthia Collins, Beverly Hills, California, Court of Federal Claims No: 18-0305V

80. Carolyn Hedrick, Greensboro, North Carolina, Court of Federal Claims No: 18-0307V

81. Joseph Zulaski, Beverly Hills, California, Court of Federal Claims No: 18-0309V

[FR Doc. 2018-06522 Filed 3-29-18; 8:45 am]

BILLING CODE 4165-15-P